ENVIRONMENTAL PROTECTION AGENCY

[EPA-R04-OW-2011-0937; FRL-9688-2]

Public Water System Supervision Program Revision for the State of Alabama

AGENCY: Environmental Protection Agency (EPA).

ACTION: Notice of tentative approval.

SUMMARY: Notice is hereby given that the State of Alabama is revising its approved Public Water System Supervision Program. Alabama has adopted the following rules: Long Term 1 Enhanced Surface Water Treatment Rule, Long Term 2 Enhanced Surface Water Treatment Rule, and Stage 2 Disinfection/Disinfection Byproducts Rule. EPA has determined that Alabama's rules are no less stringent than the corresponding federal regulations. Therefore, EPA is tentatively approving this revision to the State of Alabama's Public Water System Supervision Program.

DATES: Any interested person may request a public hearing. A request for a public hearing must be submitted by July 18, 2012, to the Regional Administrator at the EPA Region 4 address shown below. The Regional Administrator may deny frivolous or insubstantial requests for a hearing. However, if a substantial request for a public hearing is made by July 18, 2012, a public hearing will be held. If EPA Region 4 does not receive a timely and appropriate request for a hearing and the Regional Administrator does not elect to hold a hearing on her own motion, this determination shall become final and effective on July 18, 2012. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:30 a.m. and 4:30 p.m., Monday through Friday, at the following offices: Alabama Department of Environmental Management, Drinking Water Branch, 1400 Coliseum Boulevard, Montgomery, Alabama 36130; and the U.S. Environmental Protection Agency, Region 4, Safe Drinking Water Branch, 61 Forsyth Street SW., Atlanta, Georgia 30303.

FOR FURTHER INFORMATION CONTACT: Brian Smith, EPA Region 4, Safe Drinking Water Branch, at the address given above, by telephone at (404) 562-9845, or at smith.brian@epa.gov.

Authority: Section 1413 of the Safe Drinking Water Act, as amended (1996), and 40 CFR Part 142.

Dated: June 5, 2012.
Gwendolyn Keyes Fleming,
Regional Administrator, Region 4.

[FR Doc. 2012-14783 Filed 6-15-12; 8:45 am]

BILLING CODE 6560-50-P